FEDERAL COMMUNICATIONS COMMISSION

47 CFR Part 73

[DA 02-495, MM Docket No. 99-282, RM-9710]

FM Broadcasting Services; Littlefield, AZ

AGENCY: Federal Communications Commission.

ACTION: Petition denial; dismissal of application for review.

SUMMARY: This document dismisses, at the request of Mountain West Broadcasting, its application for review of a Memorandum Opinion and Order in this proceeding, 65 FR 69693, published November 20, 2000.¹ The Memorandum Opinion and Order affirmed an earlier Report and Order in this proceeding, 65 FR 25463, published May 2, 2000, which had denied Mountain West's request to allot Channel 265C to Littlefield, Arizona.

¹ This document inadvertently appeared in the Rules section. It should have appeared in the Proposed Rules section.

FOR FURTHER INFORMATION CONTACT: Andrew J. Rhodes, Mass Media Bureau, (202) 418-2120.

SUPPLEMENTARY INFORMATION: This is a summary of the Memorandum Opinion and Order, MM Docket 99-282, adopted February 20, 2002, and released March 1, 2002. The full text of this Commission decision is available for inspection and copying during normal business hours in the Commission's Reference Information Center (room CY-A257), 445 12th Street, SW., Washington, DC 20554. The complete text of this decision may be also purchased from the Commission's copy contractor, Qualex International Portals II, 445 12th Street, SW., Room CY-B402, Washington, DC, 20554.

Federal Communications Commission.
John A. Karousos,
Chief, Allocations Branch, Policy and Rules Division, Mass Media Bureau.

[FR Doc. 02-6377 Filed 3-19-02; 8:45 am]

BILLING CODE 6712-01-P